DEPARTMENT OF ENERGY

Federal Energy Regulatory Commission

[Docket No. RP03-172-001]

Transcontinental Gas Pipe Line Corporation; Notice of Compliance Filing

May 1, 2003.

Take notice that on April 28, 2003, Transcontinental Gas Pipe Line Corporation (Transco), tendered for filing as part of its FERC Gas Tariff, Third Revised Volume No. 1, Ninth Revised Sheet No. 159, Eighth Revised Sheet No. 200, Third Revised Sheet No. 200A and Sixth Revised Sheet No. 225 proposed effective May 1, 2003.

Transco states that the instant filing is submitted in compliance with the Commission's order issued April 14, 2003, in Docket No. RP03-172-000 which required Transco to file revised tariff sheets providing that both replacement and releasing shippers can use multiple segmented transactions that may consist of forwardhauls and backhauls up to the shippers' MDQ to the same point within or outside the primary path at the same time.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 12, 2003.

Magalie R. Salas,
Secretary.

[FR Doc. 03-11384 Filed 5-6-03; 8:45 am]

BILLING CODE 6717-01-P